FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 26, 2018.

A. Federal Reserve Bank of Chicago (Colette A. Fried, Assistant Vice President) 230 South LaSalle Street, Chicago, Illinois 60690-1414:

1. David L. Howland and Melanie S. Dart, as trustees of the David L. Howland and Melanie S. Dart Revocable Trust dated May 27, 2015, both of Mason, Michigan, Stephanie Noel Howland of Saginaw, Michigan, and Marc Miilu of DeWitt, Michigan; to join the Dart Family Control Group and retain voting shares of Dart Financial Corporation, Mason, Michigan, and thereby indirectly retain shares of Dart Bank, Mason, Michigan.

Board of Governors of the Federal Reserve System, December 3, 2018.
Yao-Chin Chao,
Assistant Secretary of the Board.

[FR Doc. 2018-26572 Filed 12-6-18; 8:45 am]

BILLING CODE P